DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 13, 2009.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION: Copies of the applications are available for inspection in the Records Center, East Building, PHH-30, 1200 New Jersey Avenue, SE., Washington, DC or at http://fdms.gov.

This notice of receipt of applications for special permit is published in accordance with Part 107 of the Federal hazardous materials transportation law (49 U.S.C. 5117(b); 49 CFR 1.53(b)).

Issued in Washington, DC, on July 7, 2009.
Delmer F. Billings,
Director, Office of Hazardous Materials Special Permits and Approvals.

New Special Permits
Application No. | Docket No. | Applicant | Regulation(s) affected | Nature of special permits thereof
14871-N |  | Calico Brands, Inc., Ontario, CA | 49 CFR 172.302(c) and 173.308(c)(2) | To authorize the transportation in commerce of lighters containing flammable gas in non-DOT specification containers that are capable of meeting UN performance standards at the PG II performance level that are further overpacked in a corrugated container. (mode 1)
14872-N |  | Arkema, Inc., Philadelphia, PA | 49 CFR 173.31(e)(2)(ii) and 173.314(c) | To authorize the transportation in commerce of methyl mercaptan in certain DOT I 05J300W tank cars. (mode 2)
14873-N |  | Matson Navigation Company, Inc., Oakland, CA | 49 CFR 176.116(e)(3) | To authorize the transportation in commerce of certain Class I (explosive) hazardous materials in an alternative stowage configuration. (mode 3)
14875-N |  | Canton Railroad Company, Baltimore, MD | 49 CFR 174.85 | To authorize transportation of hazardous materials by rail without the use of a buffer car between the rail car containing the hazardous materials and the locomotive. (mode 2)
14877-N |  | Halon Banking Systems, New Hope, MN | 49 CFR 173.304a | To authorize the one-time, one-way transportation in commerce of non-DOT specification cylinders containing a refrigerant gas. (modes 1, 2)
14878-N |  | Humboldt County Waste Management Authority, Eureka, CA | 49 CFR 172.102 Special Provision 130 | To authorize the transportation in commerce of certain dry batteries in packaging without protecting against short circuits. (mode 1)
14881-N |  | United Parcel Service, Atlanta, GA | 49 CFR 172.404(b) | To authorize the transportation in commerce of small unpalletized packages in an overpack (reusable, collapsible consolidation bins) without hazard warning labels on the overpack. (modes 1, 2)
14883-N |  | Structural Composites Industries (SCI), Pomona, CA | 49 CFR 173.302a and 173.304a | To authorize the manufacture, marking, sale and use of non-DOT specification fully wrapped carbon-fiber reinforced aluminum lined cylinders. (modes 1, 2, 3, 4)

[FR Doc. E9-16517 Filed 7-13-09; 8:45 am]

BILLING CODE 4910-60-M